DEPARTMENT OF COMMERCE

Patent and Trademark Office

Agency Information Collection Activities; Submission to the Office of Management and Budget (OMB) for Review and Approval; Comment Request; Substantive Submissions Made During the Prosecution of the Trademark Application

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on December 4, 2023 during a 60-day comment period (88 FR 84132). This notice allows for an additional 30 days for public comment.

Agency: United States Patent and Trademark Office, Department of Commerce.

Title: Substantive Submissions Made During the Prosecution of the Trademark Application.

OMB Control Number: 0651-0054.

Needs and Uses: This collection of information is required by the Trademark Act, 15 U.S.C. 1051 et seq., which provides for the registration of trademarks, service marks, collective trademarks and collective service marks, collective membership marks, and certification marks. Individuals and businesses that use or intend to use such marks in commerce may file an application to register their marks with the United States Patent and Trademark Office (USPTO).

Such individuals and businesses may also submit various communications to the USPTO, including providing additional information needed to process a request to delete a particular filing basis from an application or to divide an application identifying multiple goods and/or services into two or more separate applications. Applicants may seek a six-month extension of time to file a statement that the mark is in use in commerce or submit a petition to revive an application that was abandoned for failure to submit a timely response to an office action or a timely statement of use or extension request. In some circumstances, an applicant may expressly abandon an application by filing a request for withdrawal of the application.

The rules implementing the Trademark Act are set forth in 37 CFR part 2. These rules mandate that each register entry include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another. As a result, the Federal trademark registration process is intended to reduce unnecessary litigation, and its accompanying costs and burdens.

The information in this collection is used to process the substantive submissions made during prosecution of the trademark application. The submissions in this information collection are a matter of public record and are used by the public for a variety of private business purposes related to establishing and enforcing trademark rights. The information is accessible online, through the USPTO website, as well as through various USPTO facilities.

Form Numbers:

• PTO 1553 (Allegation of Use (Statement of Use/Amendment to Allege Use))

• PTO 1554 (Request to Divide Application)

• PTO 1555 (Response to Intent-to-Use/Divisional (ITU/Divisional) Unit Office Action)

• PTO 1556 (Response to Petition to Revive Deficiency Letter)

• PTO 1557 (Petition to Revive with Request to Delete Section 1(b) Basis or to Delete ITU Goods/Services/Collective Membership Organization After NOA)

• PTO 1581 (Request for Extension of Time to File a Statement of Use)

• PTO 2194 (Petition to Revive Abandoned Application—Failure to Respond Timely to Office Action)

• PTO 2195 (Petition to Revive Abandoned Application—Failure to File Timely Statement of Use or Extension Request)

• PTO 2200 (Request to Delete Section 1(b) Basis, Intent to Use)

• PTO 2202 (Request for Express Abandonment (Withdrawal) of Application)

• PTO 2301 (Petition to Director)

Type of Review: Extension and revision of a currently approved information collection.

Affected Public: Private sector.

Respondent's Obligation: Required to obtain or retain benefits.

Frequency: On occasion.

Estimated Number of Annual Respondents: 373,293 respondents.

Estimated Number of Annual Responses: 373,293 responses.

Estimated Time per Response: The USPTO estimates that the responses in this information collection will take the public approximately between 30 minutes (0.5 hours) and 70 minutes (1.17 hours) to complete. This includes the time to gather the necessary information, create the document, and submit the information to the USPTO.

Estimated Total Annual Respondent Burden Hours: 265,556 hours.

Estimated Total Annual Respondent Non-Hourly Cost Burden: $43,517,005.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0054.

Further information can be obtained by:

• Email: InformationCollection@uspto.gov. Include “0651-0054 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-04121 Filed 2-27-24; 8:45 am]

BILLING CODE 3510-16-P